ENVIRONMENTAL PROTECTION AGENCY

40 CFR Part 82

[FRL-7560-9]

RIN: 2060-AF36

Protection of Stratospheric Ozone: Supplemental Rule Regarding a Recycling Standard Under Section 608 of the Clean Air Act; Correction

AGENCY: Environmental Protection Agency (EPA).

ACTION: Final rule; correction.

SUMMARY: Through this action, EPA is correcting the final rule published in the Federal Register on July 24, 2003 (68 FR 43786). Specifically, EPA is clarifying that the effective date for the rule, as it applies to the certification of refrigerant recycling equipment is effective 90 days after the publication date (i.e., October 22, 2003). The effective date for the remaining components of the final rule is September 22, 2003.

EPA is also including amendments to regulations that were discussed in the preamble to the July 24, 2003 final rule, but were inadvertently omitted from the Federal Register.

DATES: The final rule that was published on July 24, 2003 at 68 FR 43786 is effective on September 22, 2003, except for § 82.158(n) (i.e., certification standards for refrigerant recycling only equipment) which is effective October 22, 2003.

FOR FURTHER INFORMATION CONTACT: Julius Banks; (202) 564-9870; Stratospheric Protection Implementation Branch, Global Programs Division, Office of Atmospheric Programs, Office of Air and Radiation (6205-J); 1200 Pennsylvania Avenue, NW., Washington, DC 20460. The Stratospheric Ozone Information Hotline, 800-296-1996, and the Ozone Web page, http://www.epa.gov/ozone/title6/608/regulations/index.html, can also be contacted for further information concerning this correction.

SUPPLEMENTARY INFORMATION: While the final rule published in the Federal Register on July 24, 2003 (68 FR 43786) lists the effective date for the certification of refrigerant recycling equipment, as being effective 90 days after the publication date (i.e., October 22, 2003), the notice failed to specify a regulatory citation associated with equipment certification. Therefore, EPA is clarifying that the effective date for the rule, as it applies to the certification of refrigerant recycling equipment, as stated in 40 CFR 82.158(n), is effective 90 days after the final rule publication date (i.e., October 22, 2003).

The final rule discussed several edits to the appendices of 40 CFR part 82, subpart F that were omitted from the regulatory text published in the Federal Register (i.e., reference list and standards for particulate used in standard contaminated refrigerant samples in Appendix B2 and the standards for becoming a certifying program for technicians in Appendix D). EPA is adding the reference list and the standards for particulate used in standard contaminated refrigerant samples to Appendix B2 (based on the ARI Standard 740-1995) that was inadvertently omitted from the Federal Register document. EPA is also adding edits to the regulatory text of Appendix D to subpart F-Standards for Becoming a Certifying Program for Technicians that were omitted from the final rule published on July 24, 2003. The edits were discussed in the preamble to the final rule under Section D. Technician Certification and the Sales Restriction (68 FR 43791), but were not included in the edits to the regulatory text.

List of Subjects in 40 CFR Part 82

Environmental protection, Administrative practice and procedure, Air pollution control, Chemicals, Exports, Imports, Reporting and recordkeeping requirements.

Dated: September 11, 2003.
Robert Brenner,
Acting Assistant Administrator, Office of Air and Radiation.

Part 82, chapter I, title 40, of the Code of Federal Regulations, is amended as follows:

PART 82—PROTECTION OF STRATOSPHERIC OZONE

1. The authority citation for part 82 continues to read as follows:

Authority: 42 U.S.C. 7414, 7601, 7671-7671q.

2. Appendix B2 to subpart F is amended by adding Attachments 1 and 2 to read as follows:

Attachment 1 to Appendix B2 to Subpart F of Part 82—References

Listed here are all standards, handbooks, and other publications essential to the formation and implementation of the standard. All references in this appendix are considered as part of this standard.

• ANSI/UL Standard 1963, Refrigerant Recovery/Recycling Equipment, First Edition, 1989, American National Standards Institute/Underwriters Laboratories, Inc.

• ARI Standard 110-90, Air-Conditioning and Refrigerating Equipment Nameplate Voltages, Air-Conditioning and Refrigeration Institute

• ARI Standard 700-95, Specifications for Fluorocarbon and Other Refrigerants, Air-Conditioning and Refrigeration Institute

• ASHRAE Terminology of Heating, Ventilation, Air Conditioning, Refrigeration, & Refrigeration, American Society of Heating, Refrigerating, and Air-Conditioning Engineers, Inc., 1991

• IEC Standard Publication 38, IEC Standard Voltages, International Electrotechnical Commission, 1983

Attachment 2 to Appendix B2 to Subpart F of Part 82-Particulate Used in Standard Contaminated Refrigerant Sample

1. Particulate Specification

B1.1 The particulate material (pm) will be a blend of 50% coarse air cleaner dust as received, and 50% retained on a 200-mesh screen. The coarse air cleaner dust is available from: AC Spark Plug Division; General Motors Corporation; Flint, Michigan.

B1.2 Preparation of Particulate Materials.

To prepare the blend of contaminant, first wet screen a quantity of coarse air cleaner dust on a 200-mesh screen (particle retention 74 pm). This is done by placing a portion of the dust on a 200-mesh screen and running water through the screen while stirring the dust with the fingers. The fine contaminant particles passing through the screen are discarded. The +200-mesh particles collected on the screen are removed and dried for one hour at 110° C. The blend of standard contaminant is prepared by mixing 50% by weight of coarse air cleaner dust as received (after drying for one hour at 110° C) with 50% by weight of the +200 mesh screened dust.

B1.3 Particle Size Analysis.

The coarse air cleaner dust as received and the blend used as the standard contaminant have the following approximate particle size analysis:

Wt. % in various size ranges, pm.

Size range | As received | Blend
0-5 | 12 | 6
5-10 | 12 | 6
10-20 | 14 | 7
20-40 | 23 | 11
40-80 | 30 | 32
80-200 | 9 | 38

3. Appendix D to subpart F of part 82 is amended by revising section g. to read as follows:

Appendix D to Subpart F—Standards for Becoming a Certifying Program for Technicians

* * * * *

g. Recordkeeping and Reporting Requirements

1. Certifying programs must maintain records that include, but are not limited to, the names and addresses of all individuals taking the tests, the scores of all certification tests administered, and the dates and locations of all testing administered.

2. EPA must receive an activity report from all approved certifying programs by every January 30 and June 30, the first to be submitted following the first full six-month period for which the program has been approved by EPA. This report will include the pass/fail rate and testing schedules. This will allow the Agency to determine the relative progress and success of these programs. If the certifying program believes a test bank question needs to be modified, information about that question should also be included.

3. Approved certifying programs will receive a letter of approval from EPA. Each testing center must display a copy of that letter at their place of business.

4. Approved technician certification programs that voluntarily plan to stop providing the certification test must forward all records required by this appendix, §§ 82.161, and 82.166 to another program currently approved by EPA in accordance with this appendix and with § 82.161. Approved technician certification programs that receive records of certified technicians from a program that no longer offers the certification test must inform EPA in writing at the address listed in § 82.160 within 30 days of receiving these records. The notification notice must include the name and address of the program to which the records have been transferred. If another currently approved program willing to accept the records cannot be located, these records must be submitted to EPA at the address listed at § 82.160.

5. Technician certification programs that have had their certification revoked in accordance with § 82.169 must forward all records required by this appendix, §§ 82.161, and 82.166 to EPA at the address listed in § 82.160.

* * * * *

[FR Doc. 03-23850 Filed 9-17-03; 8:45 am]

BILLING CODE 6560-50-P